DEPARTMENT OF TRANSPORTATION

Federal Aviation Administration

[Docket No. FAA-2025-5568]

Agency Information Collection Activities: Request for Comments; Clearance of a New Approval of Information Collection: Designated Pilot Examiners: Post Activity Survey

AGENCY: Federal Aviation Administration (FAA), DOT.

ACTION: Notice and request for comments.

SUMMARY: In accordance with the Paperwork Reduction Act of 1995, FAA invites public comments about our intention to request Office of Management and Budget (OMB) approval for a new information collection. The collection includes a voluntary survey for pilots evaluated by private citizens who have been granted examination authority by the FAA.

DATES: Written comments should be submitted by February 27, 2026.

ADDRESSES: Please send written comments:

By Electronic Docket: www.regulations.gov (Enter docket number into search field).

By mail: Christopher Morris, Flight Standards Service, 800 Independence Ave. SW, Washington, DC 20591.

By email: Chris.Morris@faa.gov.

FOR FURTHER INFORMATION CONTACT: AFG-970 Delegation and Resource Branch by email at: 9-AVS-AFG-970@faa.gov; phone: 405-954-6400.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Designated Pilot Examiners: Post-Activity Survey.

Form Numbers: N/A.

Type of Review: This is a new information collection request.

Background: The FAA delegates pilot-examination authority to qualified private citizens in accordance with section 183.23 of title 14, Code of Federal Regulations. In Section 833 of the FAA Reauthorization Act of 2024, Congress mandated that the FAA enhance its oversight of designated pilot examiners (DPEs) by, among other things, “[d]eploying a survey system to track the performance and merit of such examiners.” Because such a survey will necessarily constitute a time burden on pilots, the FAA is seeking OMB approval to collect pilots' feedback through such a survey system.

The FAA will ask pilots to complete a survey following practical examinations conducted by DPEs. The survey will consist of approximately twelve yes-or-no questions regarding DPEs' level of professionalism; the suitability of the exam environment; the content of the exam; and the duration of the ground portion and the flight portion of the exam. The FAA will use the information collected to track the performance and merit of DPEs.

Respondents: The FAA estimates that approximately 49,000 applicants will complete the survey each year.

Frequency: On occasion.

Estimated Average Burden per Response: Seven minutes.

Estimated Total Annual Burden: 343,000 minutes.

Issued in Washington, DC, on December 19, 2025.
DC Morris,
Aviation Safety Analyst, Flight Standards Service, General Aviation and Commercial Division.

[FR Doc. 2025-23770 Filed 12-23-25; 8:45 am]

BILLING CODE 4910-13-P